DEPARTMENT OF STATE

[Public Notice 11360]

Designation of Individuals and Entities Pursuant to Executive Order 13949 and Delegation to the Under Secretary for Arms Control and International Security of Authorities in Executive Order 13949

AGENCY: Department of State.

ACTION: Notice of designations and delegation of authority.

SUMMARY: Pursuant to the authority in Section 1(a)(i) of Executive Order 13949, “Blocking Property of Certain Persons with Respect to the Conventional Arms Activities of Iran,” the Secretary of State, in consultation with the Secretary of the Treasury and the Attorney General, has determined that the Iranian Ministry of Defense and Armed Forces Logistics (MODAFL), Iran's Defense Industries Organization (DIO), DIO Director Mehrdad Akhlaghi-Ketabchi, and Venezuela's nominal president Nicholas Maduro engage in activity that materially contributes to the supply, sale, or transfer, directly or indirectly, to or from Iran, or for the use in or benefit of Iran, of arms or related materiel, including spare parts. The Secretary of State, in consultation with the Secretary of the Treasury and the Attorney General, has additionally determined that Iran's Marine Industries Organization (MIO), Aerospace Industries Organization (AIO), and the Iran Aviation Industries Organization (IAIO), engage in activity that materially contributes to the supply, sale, or transfer, directly or indirectly, to or from Iran, or for the use in or benefit of Iran, of arms or related materiel, including spare parts. Additionally, by the virtue of the authority vested in the Secretary of State, including Section 1 of the State Department Basic Authorities Act, as amended, the Secretary delegated to the Under Secretary for Arms Control and International Security the functions conferred on the Secretary of State in Executive Order 13949 of September 21, 2020.

DATES: The Secretary of State made these designations pursuant to Executive Order 13949 on September 21, 2020 and January 15, 2021, respectively. The Secretary of State delegated to the Under Secretary for Arms Control and International Security the functions conferred on the Secretary of State in Executive Order 13949 on January 15, 2021.

FOR FURTHER INFORMATION CONTACT: Office of Counterproliferation Initiatives, Bureau of International Security and Nonproliferation, Department of State, Washington, DC 20520, tel.: 202-736-7065, or CPI-Sanctions@state.gov.

SUPPLEMENTARY INFORMATION: On September 21, 2020, the President, invoking the authority, inter alia, of the International Emergency Economic Powers Act (50 U.S.C. 1701-1706) (“IEEPA”), issued Executive Order 13949 (the “Order”), effective on September 21, 2020. In the Order the President took additional steps with respect to the national emergency declared in Executive Order (E.O.) 12957 of March 15, 1995 to counter Iran's malign influence in the Middle East, including transfers from Iran of destabilizing conventional weapons and acquisition of arms and related materiel by Iran.

Section 1 of the Order blocks, with certain exceptions, all property and interests in property that are in the United States, that hereafter come within the United States, or that are or hereafter come within the possession or control of any United States person of the following persons are blocked and may not be transferred, paid, exported, withdrawn, or otherwise dealt in: (i) Any person determined by the Secretary of State, in consultation with the Secretary of the Treasury, to engage in any activity that materially contributes to the supply, sale, or transfer, directly or indirectly, to or from Iran, or for the use in or benefit of Iran, of arms or related materiel, including spare parts; (ii) any person determined by the Secretary of State, in consultation with the Secretary of the Treasury, to provide to Iran any technical training, financial resources or services, advice, other services, or assistance related to the supply, sale, transfer, manufacture, maintenance, or use of arms and related materiel described in subsection (a)(i) of this section; (iii) any person determined by the Secretary of State, in consultation with the Secretary of the Treasury, to have engaged, or attempted to engage, in any activity that materially contributes to, or poses a risk of materially contributing to, the proliferation of arms or related materiel or items intended for military end-uses or military end-users, including any efforts to manufacture, acquire, possess, develop, transport, transfer, or use such items, by the Government of Iran (including persons owned or controlled by, or acting for or on behalf of the Government of Iran) or paramilitary organizations financially or militarily supported by the Government of Iran; (iv) any person determined by the Secretary of the Treasury, in consultation with the Secretary of State, to have materially assisted, sponsored, or provided financial, material, or technological support for, or goods or services to or in support of, any person whose property and interests in property are blocked pursuant to this order; or (v) any person determined by the Secretary of the Treasury, in consultation with the Secretary of State, to be owned or controlled by, or to have acted or purported to act for or on behalf of, directly or indirectly, any person whose property and interests in property are blocked pursuant to this order.

As a result of this action, all property and interests in property of MODAFL, DIO, DIO Director Mehrdad Akhlaghi-Ketabchi, MIO, AIO, IAIO, or Nicholas Maduro that are in the United States, or that hereafter come within the United States or that are or hereafter come within the possession or control of United States persons are blocked and may not be transferred, paid, exported, withdrawn, or otherwise dealt in.

The delegation to the Under Secretary for Arms Control and International Security of the functions conferred on the Secretary of State in Executive Order 13949 of September 21, 2020 includes any act, executive order, regulation, or procedure subject to, or affected by, this delegation shall be deemed to be such act, executive order, regulation, or procedure as amended from time to time. Additionally, the Secretary, the Deputy Secretary, or the Deputy Secretary for Management and Resources may at any time exercise any authority or function delegated herein. Internally, the Department identified this delegation as Delegation of Authority No. 496.

Information on the designees:

Entity 1

Name: Ministry of Defense and Armed Forces Logistics

a.k.a.: Ministry of Defense and Support for Armed Forces Logistics

a.k.a.: MODAFL

a.k.a.: MODSAF

a.k.a.: Ministry of Defense for Armed Forces Logistics

a.k.a.: Ministry of Defense Armed Forces Logistics

a.k.a.: Vezarat-E Defa Va Poshtybani-E Niru-Haye Mosallah

a.k.a.: Ministry of Defence & Armed Forces Logistics

a.k.a.: Government of Iran Department of Defense

a.k.a.: Vezarate Defa

Address: Ferdowsi Avenue, Sarhang Sakhaei Street, Tehran, Iran

Address: P.O. Box 11365-8439, Pasdaran Ave. Tehran, Iran

Address: West side of Dabestan Street, Abbas Abad District, Tehran, Iran

Entity 2

Name: DEFENSE INDUSTRIES ORGANIZATION

a.k.a.: DIO

a.k.a.: DEFENCE INDUSTRIES ORGANISATION

a.k.a.: SAZEMANE SANAYE DEFA

a.k.a.: SASEMAN SANAJE DEFA

a.k.a.: SASADJA

Address: P.O. Box 19585-777, Pasdaran Street, Tehran, Iran

Entity 3

Name: AEROSPACE INDUSTRIES ORGANIZATION

a.k.a.: AIO

a.k.a.: SAZMANE SANAYE HAVA FAZA

Address: Langare Street, Nobonyad Square, Tehran, Iran

Entity 4

Name: IRAN AVIATION INDUSTRIES ORGANIZATION

a.k.a.: IAIO

a.k.a.: SAZMANE SANAYE HAVAI

Address: Karaj Special Road, Mehrabad Airport, Tehran, Iran

Address 2: Sepahbod Gharani 36, Tehran, Iran

Address 3: 3th Km Karaj Special Road, Aviation Industries Boulevard, Tehran, Iran

Entity 4

Name: MARINE INDUSTRIES ORGANIZATION

a.k.a.: MIO

Address: Pasdaran Av., P.O. Box 19585/777, Tehran, Iran

Individual 1

Name: Merhdada Akhlaghi KETABACHI

Date of birth: September 10, 1958

Gender: Male

Nationality: Iran

Passport number: A0030940 (Iran)

Individual 2

Name: Nicolas MADURO MOROS

Date of birth: November 23, 1962

Place of birth: Caracas, Venezuela

Gender: Male

Nationality: Venezuela

Cedula number: 5892464 (Venezuela)

Zachary A. Parker,
Director, Office of Directives Management.

[FR Doc. 2021-05053 Filed 3-10-21; 8:45 am]

BILLING CODE 4710-27-P